DEPARTMENT OF TRANSPORTATION

Federal Aviation Administration

14 CFR Part 39

[Docket No. FAA-2019-0412; Product Identifier 2018-CE-030-AD; Amendment 39-21253; AD 2020-19-10]

RIN 2120-AA64

Airworthiness Directives; Piaggio Aero Industries S.p.A.

AGENCY: Federal Aviation Administration (FAA), DOT.

ACTION: Final rule.

SUMMARY: The FAA is adopting a new airworthiness directive (AD) for Piaggio Aero Industries S.p.A. Model P-180 airplanes. This AD results from mandatory continuing airworthiness information (MCAI) issued by an aviation authority of another country to identify and correct an unsafe condition on an aviation product. The MCAI describes the unsafe condition as insufficient sealing of a steering select/bypass valve installed in the nose landing gear (NLG) manifold. The FAA is issuing this AD to address the unsafe condition on these products.

DATES: This AD is effective November 3, 2020.

The Director of the Federal Register approved the incorporation by reference of certain publications listed in this AD as of November 3, 2020.

ADDRESSES: For service information identified in this final rule, contact Piaggio Aero Industries S.p.A, Airworthiness Office, Via Pionieri e Aviatori d'Italia snc, 16154 Genova, Italy; phone: +39 010 0998046; email: airworthiness@piaggioaerospace.it; and internet: https://www.piaggioaerospace.it/en/customer-support. You may review this referenced service information at the FAA, Airworthiness Products Section, Operational Safety Branch, 901 Locust, Kansas City, Missouri 64106. For information on the availability of this material at the FAA, call (816) 329-4148. It is also available on the internet at https://www.regulations.gov by searching for and locating Docket No. FAA-2019-0412.

Examining the AD Docket

You may examine the AD docket on the internet at https://www.regulations.gov by searching for and locating Docket No. FAA-2019-0412; or in person at Docket Operations between 9 a.m. and 5 p.m., Monday through Friday, except Federal holidays. The AD docket contains this final rule, any comments received, and other information. The address for Docket Operations is Docket Operations, U.S. Department of Transportation, Docket Operations, M-30, West Building Ground Floor, Room W12-140, 1200 New Jersey Avenue SE, Washington, DC 20590.

FOR FURTHER INFORMATION CONTACT: Mike Kiesov, Aerospace Engineer, FAA, General Aviation & Rotorcraft Section, International Validation Branch, 901 Locust, Room 301, Kansas City, Missouri 64106; telephone: (816) 329-4144; fax: (816) 329-4090; email: mike.kiesov@faa.gov.

SUPPLEMENTARY INFORMATION:

Discussion

The FAA issued a notice of proposed rulemaking (NPRM) to amend 14 CFR part 39 by adding an AD that would apply to all Piaggio Aero Industries S.p.A. Model P-180 airplanes. The NPRM published in the Federal Register on June 5, 2019 (84 FR 26025). The NPRM proposed to correct an unsafe condition for the specified products and was based on mandatory continuing airworthiness information (MCAI) originated by the European Aviation Safety Agency (EASA), which is the Technical Agent for the Member States of the European Union. EASA issued AD No. 2017-0229, dated November 21, 2017 (referred to after this as “the MCAI”), which states:

An occurrence was reported of finding insufficient sealing of a Steering Select/Bypass Valve installed on the nose landing gear (NLG) Steering Manifold of a P.180 aeroplane.

This condition, if not detected and corrected, could lead to uncommanded deflection of the NLG wheel, possibly resulting in reduced control of the aeroplane on the ground, with consequent damage to the aeroplane and injury to occupants.

To address this potential unsafe condition, PAI issued Service Bulletin (SB) 80-0325 to provide inspection and rectification instructions.

For the reason described above, this [EASA] AD requires a leak test of the NLG Steering Manifold and, depending on the finding(s), accomplishment of applicable corrective action(s). This [EASA] AD also requires amendment of the applicable Aircraft Flight Manual (AFM).

The MCAI further notes that airplanes with NLG steering manifold part number 72608 installed are known to include manufacturing serial numbers 1001, 3001, 3003, 3004, 3006, 3007, and 3008, and also include airplanes that have incorporated Piaggio Aerospace Service Bulletin No. 80-0425, Revision 0, dated March 30, 2017, and Piaggio Aerospace Service Bulletin No. 80-0454, Revision 0, March 6, 2017. You may examine the MCAI on the internet at https://www.regulations.gov by searching for and locating Docket No. FAA-2019-0412.

Comments

The FAA gave the public the opportunity to participate in developing this final rule. No comments were received on the NPRM or on the determination of the cost to the public.

Conclusion

The FAA reviewed the relevant data and determined that air safety and the public interest require adopting this final rule as proposed.

Related Service Information Under 1 CFR Part 51

The FAA reviewed Piaggio Aerospace Service Bulletin No. 80-0325, Revision 0, dated August 10, 2017 (SB 80-0325), and Piaggio Aerospace P.180 AVANTI II/EVO Temporary Change No. 89, dated August 30, 2017 (Temporary Change 89), to the airplane flight manual (AFM). SB 80-0325 contains procedures for doing a NLG steering manifold leakage test. Temporary Change 89 contains emergency operating procedures for the pilot to follow if the NLG steering system fails. This service information is reasonably available because the interested parties have access to it through their normal course of business or by the means identified in the ADDRESSES section.

Other Related Service Information

The FAA reviewed Piaggio Aerospace Service Bulletin No. 80-0425, Revision 0, dated March 30, 2017 (SB 80-0425); Piaggio Aerospace Service Bulletin No. 80-0454, Revision 0, March 6, 2017 (SB 80-0454); and Temporary Change No. 89 Errata Corrige, dated December 20, 2017 (Temporary Change 89EC). SB 80-0425 and SB 80-0454 both contain procedures for replacing the main landing gear and the NLG steering system on the applicable airplanes. Temporary Change 89EC revises the cover page of Temporary Change 89 to clarify the applicability of the change.

Costs of Compliance

The FAA estimates that this AD will affect 130 products of U.S. registry. The FAA also estimates that it will take about 2.5 work-hours per product to comply with the basic requirements of this AD. The average labor rate is $85 per work-hour.

Based on these figures, the FAA estimates the cost of this AD on U.S. operators to be $27,625, or $212.50 per product.

If necessary, the FAA estimates that replacing a NLG steering manifold would take about 10 work-hours and require parts costing $50,058, for a cost of $50,908 per product. The FAA has no way of determining the number of products that may need these actions.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-19-10 Piaggio Aero Industries S.p.A.: Amendment 39-21253; Docket No. FAA-2019-0412; Product Identifier 2018-CE-030-AD.

(a) Effective Date

This AD is effective November 3, 2020.

(b) Affected ADs

None.

(c) Applicability

This AD applies to Piaggio Aero Industries S.p.A. Model P-180 airplanes, certificated in any category.

(d) Subject

Air Transport Association of America (ATA) Code 32: Landing Gear.

(e) Reason

This AD was prompted by mandatory continuing airworthiness information (MCAI) originated by an aviation authority of another country to identify and correct an unsafe condition on an aviation product. The MCAI describes the unsafe condition as insufficient sealing of a steering select/bypass valve installed in the nose landing gear (NLG) manifold. The FAA is issuing this AD to detect and correct insufficient sealing of the steering select/bypass valve in the NLG steering manifold, which could lead to un-commanded NLG wheel turns with consequent lateral runway departure.

(f) Actions and Compliance

Unless already done, do the following actions in paragraphs (f)(1) through (3) of this AD.

(1) For airplanes with NLG steering manifold part number (P/N) 72608 installed: (i) Within 50 hours time-in service after the effective date of this AD, do a steering manifold pressure leakage test and, if there is steering actuator movement during the test, replace the NLG steering manifold and repeat the test by following the Accomplishment Instructions, procedure steps (1) through (24), in Piaggio Aerospace Service Bulletin No. 80-0325, Revision 0, dated August 10, 2017.

(ii) If steering actuator movement occurs during procedure step (9) or procedure step (15) of the leakage test required in paragraph (f)(1)(i) of this AD, replacing the NLG steering manifold and repeating the steering manifold pressure leakage test is required before further flight.

(2) For all airplanes, after the effective date of this AD, do not install NLG steering manifold P/N 72608 on any airplane unless it has been inspected as specified in paragraph (f)(1) of this AD and no steering actuator movement occurred.

(3) For all airplanes, within 30 days after the effective date of this AD, revise the airplane flight manual (AFM) by replacing certain pages in the Emergency Procedures section of the AFM by following the Instructions in Piaggio Aerospace P.180 AVANTI II/EVO Temporary Change No. 89, dated August 30, 2017.

(g) Alternative Methods of Compliance

The Manager, International Validation Branch, FAA, has the authority to approve AMOCs for this AD, if requested using the procedures found in 14 CFR 39.19. Send information to ATTN: Mike Kiesov, Aerospace Engineer, FAA, General Aviation & Rotorcraft, International Validation Branch, 901 Locust, Room 301, Kansas City, Missouri 64106; telephone: (816) 329-4144; fax: (816) 329-4090; email: mike.kiesov@faa.gov. Before using any approved AMOC on any airplane to which the AMOC applies, notify your appropriate principal inspector (PI) in the FAA Flight Standards District Office (FSDO), or lacking a PI, your local FSDO.

(g) Related Information

Refer to MCAI European Aviation Safety Agency AD No. 2017-0229, dated November 21, 2017, for related information. You may examine the MCAI on the internet at https://www.regulations.gov by searching for and locating Docket No. FAA-2019-0412.

(h) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Piaggio Aerospace Service Bulletin No. 80-0325, Revision 0, dated August 10, 2017 (SB 80-0325).

(ii) Piaggio Aerospace P.180 AVANTI II/EVO Temporary Change No. 89, dated August 30, 2017 (Temporary Change 89).

(3) For Piaggio Aerospace service information identified in this AD, contact Piaggio Aero Industries S.p.A, Airworthiness Office, Via Pionieri e Aviatori d'Italia snc, 16154 Genova, Italy; phone: +39 010 0998046; email: airworthiness@piaggioaerospace.it; and internet: https://www.piaggioaerospace.it/en/customer-support.

(4) You may view this service information at the FAA, Airworthiness Products Section, Operational Safety Branch, 901 Locust, Kansas City, Missouri 64106. For information on the availability of this material at the FAA, call 816-329-4148. In addition, you can access this service information on the internet at https://www.regulations.gov by searching for and locating Docket No. FAA-2019-0412.

(5) You may view this service information that is incorporated by reference at the National Archives and Records Administration (NARA). For information on the availability of this material at NARA, email fedreg.legal@nara.gov, or go to: https://www.archives.gov/federal-register/cfr/ibr-locations.html.

Issued on September 10, 2020.
Lance T. Gant,
Director, Compliance & Airworthiness Division, Aircraft Certification Service.

[FR Doc. 2020-21392 Filed 9-28-20; 8:45 am]

BILLING CODE 4910-13-P